ENVIRONMENTAL PROTECTION AGENCY

[EPA-HQ-OW-2004-0003; FRL-8168-9]

National Guidance: Best Management Practices for Preparing Vessels Intended To Create Artificial Reefs

AGENCY: Environmental Protection Agency (EPA).

ACTION: Notice of availability.

SUMMARY: This notice informs the public of the availability of the final National Guidance: Best Management Practices for Preparing Vessels Intended to Create Artificial Reefs, which provides information on national environmentally-based best management practices for preparation of vessels to be sunk with the intention of creating artificial reefs. The U.S. Environmental Protection Agency (EPA) and the Maritime Administration (MARAD) jointly developed this guidance recommending environmental best management practices to be used in the preparation of vessels for use as artificial reefs as required by Section 3516 of the National Defense Authorization Act for Fiscal Year 2004. The first of its kind, this guidance document provides clean-up performance goals and information on methods for achieving those goals when preparing vessels prior to sinking.

FOR FURTHER INFORMATION CONTACT: Laura S. Johnson, Marine Pollution Control Branch, Office of Wetlands, Oceans and Watersheds, (4504T), U.S. EPA, 1200 Pennsylvania Ave., NW., Washington, DC 20460; telephone number: (202) 566-1273; fax number: (202) 566-1546; e-mail address: johnson.laura-s@epa.gov.

SUPPLEMENTARY INFORMATION:

I. General Information

A. Interested Entities

Entities potentially interested in today's notice are those who want to transfer their vessel for reefing, have the capacity to prepare a vessel for reefing, wish to undertake a vessel-to-reef project, or are responsible for managing an artificial reef. Categories and entities interested in today's notice include:

Category | Examples of interested entities
Federal Government | Maritime Administration, U.S. Army Corps of Engineers, U.S. Coast Guard, U.S. Navy, National Oceanic and Atmospheric Administration.
State/Local/Tribal Government | Governments owning or responsible for artificial reef preparation, placement, and management; coastal communities.
Industry and General Public | Shipyards, salvage companies, recreational fishing and scuba diving interests, environmental interest groups.

This table is not intended to be exhaustive, but rather provides a guide for readers regarding entities likely to be interested in this notice. This table lists the types of entities that EPA is now aware could potentially be interested in this notice. Other types of entities not listed in the table could also be interested.

B. How Can I Get Copies of This Document and Other Related Information?

1. Guidance Document Electronic Access. To obtain a copy of the guidance document entitled National Guidance: Best Management Practices for Preparing Vessels Intended to Create Artificial Reefs, please access our Web site at: http://www.epa.gov/owow/oceans/habitat/artificialreefs.

2. Federal Register Docket. EPA has established a public docket for this notice under Docket ID No. EPA-HQ-OW-2004-0003; FRL-XXXX-X. The public docket consists of the documents specifically referenced in this notice and other information related to this notice. The public docket does not include information claimed as Confidential Business Information (CBI) or other information whose disclosure is restricted by statute. Publicly available docket materials are available either electronically through www.regulations.gov or in hard copy at the Water Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Water Docket is (202) 566-2426. To view these materials, we encourage you to call ahead to schedule an appointment. Every user is entitled to copy 266 pages per day before incurring a charge. The docket may charge 15 cents a page for each page over the 266-page limit plus an administrative fee of $25.00.

3. Federal Register Electronic Access. You may access this Federal Register document electronically through the EPA Internet under the “Federal Register” listings at: http://www.epa.gov/fedrgstr/.

II. Background

Section 3516 of the National Defense Authorization Act for Fiscal Year 2004 (Act) requires that MARAD and EPA jointly develop guidance recommending environmental best management practices (BMPs) to be used in the preparation of vessels for use as artificial reefs. These BMPs are to serve as national guidance for the clean-up and preparation of obsolete and decommissioned military and commercial vessels for use as artificial reefs. In addition, the Act requires the Secretary of the Navy to ensure that the preparation of a vessel (that is stricken from the Naval Vessel Registry) for use as an artificial reef is conducted in accordance with these environmental best management practices and applicable environmental laws.

The Act provides that the BMPs are to (A) Ensure that vessels prepared for use as artificial reefs “will be environmentally sound in their use as artificial reefs,” (B) “promote consistent use of such practices nationwide,” (C) “provide a basis for estimating the costs associated with the preparation of vessels for use as artificial reefs,” and (D) include measures that will “enhance the utility of the Artificial Reefing Program of the Maritime Administration as an option for the disposal of obsolete vessels.”

Options for managing obsolete and decommissioned military and commercial vessels include re-use of the vessel or parts of the vessel, recycling or scrapping, creating artificial reefs, and disposal on land or at sea. The guidance document made available today addresses one of these management options, artificial reef creation, with the intent of promoting a consistent, national approach.

An interagency workgroup, chaired by EPA, was established to develop national environmentally-based best management practices for the preparation of vessels to be sunk with the intention of creating artificial reefs. The workgroup included representatives from the EPA, U.S. Coast Guard, U.S. Navy, MARAD, U.S. Army Corps of Engineers, National Oceanic and Atmospheric Administration, and the U.S. Fish and Wildlife Service.

On August 2, 2004, EPA published a notice of availability of the Draft National Guidance: Best Management Practices for Preparing Vessels Intended to Create Artificial Reefs for public comment. See section I.B. of today's notice for information about viewing these public comments and EPA's response to comments document.

III. Today's Action

Today's notice announces the availability of the final BMP guidance. This final guidance reflects the input of the Federal workgroup and public comments received on the Draft National Guidance: Best Management Practices for Preparing Vessels Intended to Create Artificial Reefs (60 FR 46141). The guidance describes guidelines for the preparation of obsolete and decommissioned military and commercial vessels in a manner that is intended to help ensure that the marine environment will benefit from their use as an artificial reef. The guidance identifies materials or categories of materials of concern that may be present aboard vessels, indicates where these materials may be found, and briefly describes their potential adverse impacts if released into the marine environment. The materials of concern include: Fuels and oil, asbestos, polychlorinated biphenyls (PCBs), paints, debris (e.g., vessel debris, floatables, introduced material), and other materials of environmental concern (e.g., mercury, refrigerants). For each material or category of material of concern identified, the guidance provides a general clean-up performance goal and information on methods for attaining those clean-up goals when preparing a vessel prior to sinking. Achieving the clean-up performance goals provided in this guidance, coupled with strategic reef site selection, will help maximize the environmental benefits of using vessels as artificial reefs.

Dated: May 5, 2006.
Benjamin H. Grumbles,
Assistant Administrator for Water.

[FR Doc. E6-7274 Filed 5-11-06; 8:45 am]

BILLING CODE 6560-50-P